DEPARTMENT OF HOMELAND SECURITY

[Docket No. DHS-2025-0019]

Privacy Act of 1974 Matching Program

AGENCY: Federal Emergency Management Agency, Department of Homeland Security.

ACTION: Notice of a new matching program; request for comment.

SUMMARY: Department of Homeland Security (DHS)/Federal Emergency Management Agency (FEMA) and the Small Business Administration (SBA) seek to participate in an updated computer matching program governed by a computer matching agreement to share and compare federal records regarding financial/benefits award decisions of individuals, businesses, and/or other entities to (1) connect survivors with SBA for disaster assistance, (2) prevent duplicative aid from being provided in response to the same disaster or emergency and recover aid when the comparison identifies a duplication of benefits, and (3) provide updates on SBA loan status in DHS/FEMA's Individual Assistance System. The current computer matching program between DHS/FEMA and SBA (the agencies) will expire on August 21, 2025. The agencies propose reestablishing the computer matching program, with changes to the purpose for the agreement and to the method of data transport, for an additional 18 months.

DATES: Written comments and related material must be submitted on or before August 21, 2025. This reestablished computer matching agreement is effective on August 20, 2025. If any public comments on this published matching notice are received, the comments will be reviewed to determine whether any changes to the matching notice are necessary. If is determined that significant changes to the matching notice are necessary, a revised matching notice will be published, and an additional 30-day public comment and review period will be provided.

The matching program will continue for 18 months from the effective date and may be extended an additional 12 months if the computer matching program meets the conditions specified in 5 U.S.C. 552a(o)(2)(D).

ADDRESSES: You may submit comments on this proposed matching program, identified by docket number DHS-2025-0019 by the following method:

• Federal e-Rulemaking Portal: http://www.regulations.gov. Follow the instructions for submitting comments.

Instructions: All submissions received must include the agency name and docket number DHS-2025-0019. All comments received will be posted without change to http://www.regulations.gov, including any personal information provided in the comments. Commenters should be careful to include in their comments only information that commenters wish to make publicly available.

Docket: For access to the docket to read background documents or comments received, go to http://www.regulations.gov.

FOR FURTHER INFORMATION CONTACT: To obtain additional information about this computer matching program and agreement between DHS/FEMA and SBA, please go to the following website: https://www.dhs.gov/publication/computer-matching-agreements-and-notices.

For general questions about this matching program, contact Roman Jankowski, DHS Chief Privacy Officer, at (202) 343-1717 or Privacy@HQ.DHS.GOV. For additional information from DHS/FEMA, contact Russell Bard, Component Privacy Officer, DHS/FEMA Privacy Division, and Senior Director (Acting), DHS/FEMA Information Management Division, Department of Homeland Security, at (202) 766-0582 or FEMA-Privacy@fema.dhs.gov. For inquiries related to the SBA, contact Nirish Namilae, SBA Office of Performance and Systems Management at (202) 401-2012 or nirish.namilae@sba.gov. For SBA privacy related inquiries, contact Michael Post, Chief Privacy Officer, at (202) 205-3645 or Michael.Post@sba.gov.

SUPPLEMENTARY INFORMATION: Pursuant to the Robert T. Stafford Disaster Relief and Emergency Assistance Act, 42, U.S.C. 5155—Duplication of Benefits, DHS/FEMA and SBA may not provide duplicative disaster assistance to individuals, businesses, including private-not-for profits, or other entities for the same disaster or emergency losses.

The computer matching program aims to enable SBA to utilize DHS/FEMA registrant data to connect disaster survivors to SBA who have not yet applied for SBA aid. Additionally, the program will allow DHS/FEMA and SBA to identify any duplication of benefits between the agencies and allow SBA to facilitate the recovery of SBA funds or reduction of the SBA loan in the event of such duplication, and to provide updates on the SBA loan status in DHS/FEMA's Individual Assistance System.

The computer matching program between DHS/FEMA and SBA will reduce the number of agency duplication of benefits payments to survivors of major disaster declarations. DHS/FEMA and SBA are both source and recipient agencies in this matching program. The agencies will accomplish the duplication of benefits reduction for a declared disaster by matching specific DHS/FEMA disaster applicant data with SBA disaster loan application and decision data as set forth in the computer matching agreement. Prior to the use of this computer matching program, SBA loan officers used stand-alone personal computers to access DHS/FEMA's Individual Assistance system, and matched records manually. This reestablished matching agreement makes two changes to the current program. The prior matching agreement verified whether applicants applied for an SBA loan, which was previously a requirement for eligibility. In 2024, DHS/FEMA finalized a rule that removed this eligibility requirement.¹ Accordingly, DHS/FEMA will no longer use the matching agreement for this purpose. Instead, DHS/FEMA will now share data with SBA to connect survivors registered for DHS/FEMA assistance with SBA for disaster aid.

¹ See Individual Assistance Program Equity, 89 FR 3990 (Jan. 22, 2024).

Additionally, DHS/FEMA will no longer provide automated data transfers to SBA for the initial registration process. Instead, DHS/FEMA will manually extract the required data from the Individual Assistance System, encrypt the data file, and share it with SBA via Secure File Transfer Protocol.

The matching program remains unchanged regarding the prevention of benefit duplication for the same disaster or emergency.

Participating Agencies

DHS/FEMA and SBA.

Authority for Conducting the Matching Program

Robert T. Stafford Disaster Relief and Emergency Assistance Act (Pub. L. 93-288), as amended at 42 U.S.C. 5121 et seq.

The Debt Collection Improvement Act of 1996, 31 U.S.C. 3325(d) and 7701(c)(1). Section 121 of the Immigration Reform and Control Act of 1986, Public Law 99-603, as amended by the Personal Responsibility and Work Opportunity Reconciliation Act of 1996, Public Law 104-193, 110 Stat. 2168 (1996), requires DHS to establish a system for the verification of immigration status of noncitizen applicants for, or recipients of, certain types of benefits as specified within the Immigration Reform and Control Act, and to make this system available to state agencies that administer such benefits.

The Illegal Immigration Reform and Immigrant Responsibility Act of 1996, Public Law 104-208, 110 Stat. 3009 (1996) grants federal, state, or local government agencies seeking to verify or ascertain the citizenship or immigration status of any individual within the jurisdiction of the agency with the authority to request such information from DHS/United States Citizenship and Immigration Services (USCIS) for any purpose authorized by law.

DHS/FEMA provides this notice in accordance with the Privacy Act of 1974 (5 U.S.C. 552a), as amended by the Computer Matching and Privacy Protection Act of 1988 (Pub. L. 100-503) and the Computer Matching and Privacy Protection Amendments of 1990 (Pub. L. 101-508); Office of Management and Budget (OMB) Final Guidance Interpreting the Provisions of Public Law 100-503, the Computer Matching and Privacy Protection Act of 1988, 54 FR 25818 (June 19, 1989); and OMB Circular A-108, 81 FR 94424 (December 23, 2016).

Purpose

DHS/FEMA and SBA may not provide duplicative disaster assistance to individuals, businesses, including private-not-for profits, or other entities for the same disaster or emergency losses. DHS/FEMA and SBA will participate in a computer matching program governed by a computer matching agreement to share and compare federal records related to financial and benefits award decisions of individuals, businesses, and/or other entities to connect survivors registered for DHS/FEMA assistance with SBA for disaster aid, prevent duplicative aid from being provided in response to the same disaster or emergency, recover aid when duplication of benefits is identified and to provide updates on the SBA loan status.

Categories of Individuals

Individuals and households that apply for DHS/FEMA disaster assistance following a Presidentially declared major disaster or emergency.

Categories of Records

The three types of match processes, for initial registration, duplication of benefits, and status updates, are described below, including the categories of records for each matching process.

1. DHS/FEMA—SBA Automated Import/Export Process for Initial Registrations:

a. SBA is the recipient (i.e., matching) agency. SBA will match records from its Disaster Loans Case Files (SBA-20) applications and information accessed via the Disaster Lending System, to the records manually extracted and provided by DHS/FEMA from the Individual Assistance System.

b. DHS/FEMA's Recovery Reporting and Analytics Division, within the Office of Response and Recovery, will form the registrant data set into an encrypted data file that will be shared with SBA once per business day, at minimum. The cumulative registrant data set will consist of specified DHS/FEMA registrant data fields for all disasters that are declared on or after March 22, 2024. The encrypted registrant data file will be shared with SBA using a password-protected format via encrypted email or via a DHS/FEMA Office of the Chief Information Officer-approved secure information technology portal, interface, or transfer tool that appropriately protects personally identifiable information and sensitive information and adheres to the current DHS personally identifiable information safeguarding guidelines. These data elements include but are not limited to the following information: DHS/FEMA Registration ID number, name, address, Social Security number, and date of birth; damaged property information; insurance policy data; property occupant data; vehicle registration data; and flood zone and flood insurance data.

c. SBA will import DHS/FEMA's registrant source file into the Disaster Loans Case Files (SBA-20) via the Disaster Lending System. SBA will conduct the match against the Disaster Loans Case Files (SBA-20) via the Disaster Lending System using the DHS/FEMA Disaster number, DHS/FEMA Registration Identification number, Product (Home/Business), and Registration Occupant Social Security number to create a new Pre-Application. The records SBA receives are of DHS/FEMA applicants who are referred to SBA for disaster loan assistance. Controls on the DHS/FEMA export of data are in place to ensure that SBA only receives unique and valid referral records. SBA will use the DHS/FEMA registrant data for outreach to those survivors who have not yet applied for SBA assistance and to prevent duplication of benefits.

d. When SBA matches its records to those provided by DHS/FEMA, two types of matches are possible: a full match or a partial match. A full match exists when an SBA record matches a DHS/FEMA record on each of the following data fields: DHS/FEMA Disaster number, DHS/FEMA Registration Identification number, Product (Home/Business), Name of Registrants, and Registration Occupant Social Security number. A partial match exists when an SBA record matches a DHS/FEMA record on one or more, but not all data fields listed above. If an exact (full) match is found among SBA records for the current imported record, the current record is automatically marked as a duplicate by the system with appropriate comments inserted to indicate the corresponding record that matched. If a partial match is found during the import process, the record is routed for manual examination, investigation, and resolution to determine whether it is truly a duplicate record.

2. DHS/FEMA—SBA Duplication of Benefits Automated Match Process:

a. Both DHS/FEMA and SBA will act as the recipient (i.e., matching) agency. SBA will extract and provide to DHS/FEMA data from its Disaster Loans Case Files system of records, accessed via the Disaster Lending System. DHS/FEMA will match the data SBA provides to records in its Disaster Recovery Assistance Files system of records, accessed through the Individual Assistance System, via the DHS/FEMA Registration Identification number. SBA will issue a data call to DHS/FEMA requesting that DHS/FEMA return any records for which the Individual Assistance System found a match. For each match found, DHS/FEMA sends all applicant information that DHS/FEMA collects during the registration process to SBA so that SBA may match these records with its registrant data in the Disaster Lending System. SBA's Disaster Lending System manual process triggers an automated interface to query the Individual Assistance System, using the DHS/FEMA Registration Identification number as the unique identifier.

b. DHS/FEMA will return the following fields for the matching DHS/FEMA record, if any: DHS/FEMA Disaster number; DHS/Registration Identification number; applicant and if applicable, co-applicant name; damaged dwelling address, phone number, Social Security number, damaged property data, insurance policy information, contact address (if different from damaged dwelling address), flood zone and flood insurance data, DHS/FEMA Housing Assistance and Other Needs Assistance data, program, award level, eligibility, inspection data, verification of ownership and occupancy, and approval or rejection data. DHS/FEMA will return no result when the DHS/FEMA Registration Identification number is not matched.

c. For each matching record received from DHS/FEMA, SBA determines whether DHS/FEMA assistance duplicates SBA loan assistance. If SBA loan officers determine that there is a duplication of benefits, the duplicated amount is deducted from the eligible SBA loan amount.

3. DHS/FEMA—SBA Status Update Automated Match Process:

a. DHS/FEMA will act as the recipient (i.e., matching) agency. DHS/FEMA will match records from its Disaster Recovery Assistance Files system of records to the records extracted and provided by SBA from its Disaster Loans Case Files system of records. The purpose of this process is to update DHS/FEMA applicant information with the status of SBA loan determinations. The records provided by SBA will be automatically imported into DHS/FEMA's Individual Assistance System to update the status of existing applicant records. Controls on the SBA export of data are in place to ensure that DHS/FEMA only receives unique and valid referral records.

b. In response to Presidential Individual Assistance Declarations with a DHS/FEMA Disaster number, the SBA will provide to DHS/FEMA information and data, including but not limited to the following: personal information about SBA applicants, including name, damaged dwelling address, and Social Security number; application data; loss to personal property data; loss mitigation data; SBA loan data; and SBA event data. DHS/FEMA will conduct the match using DHS/FEMA Disaster number and DHS/FEMA Registration Identification number.

c. Loan data for matched records will be recorded and displayed in the Individual Assistance System.

Systems of Records

DHS/FEMA—008 Disaster Recovery Assistance Files (89 FR 73104, September 9, 2024) covers records from DHS/FEMA's Disaster Recovery Assistance Files system of records. These records are matched against the records that SBA provides from its SBA-20 Disaster Loans Case Files, 86 FR 64979 (November 19, 2021) system of records.

SBA-20 Disaster Loans Case Files (86 FR 64979, November 19, 2021). SBA uses its Disaster Lending System to access records from its Disaster Loan Case Files system of records and match them to the records that DHS/FEMA provides from its Disaster Recovery Assistance Files system of records.

Roman Jankowski,
Chief Privacy Officer, U.S. Department of Homeland Security.

[FR Doc. 2025-13709 Filed 7-18-25; 4:15 pm]

BILLING CODE 9110-9L-P